DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; RFA Panel: RIVER—Revolutionizing Innovative, Visionary Environmental Health Research and EPCOT—Epitranscriptomics Crosstalks and Toxicants.

Date: July 22-23, 2025.

Time: 9:00 a.m. to 6:30 p.m.

Agenda: To review and evaluate grant applications.

Address: National Institutes of Health, Rockledge II, 6701 Rockledge Drive, Bethesda, MD 20892.

Meeting Format: Virtual Meeting.

Contact Person: Murali Ganesan, Ph.D., Center for Scientific Review, National Institutes of Health, 6701 Rockledge Drive, Bethesda, MD 20892, murali.ganesan@nih.gov.

Name of Committee: Center for Scientific Review Special Emphasis Panel; Mentored, Career Transition, and Mid-Career K Awards.

Date: July 22-23, 2025.

Time: 9:00 a.m. to 7:00 p.m.

Agenda: To review and evaluate grant applications.

Address: National Institutes of Health, Rockledge II, 6701 Rockledge Drive, Bethesda, MD 20892.

Meeting Format: Virtual Meeting.

Contact Person: Yasuko Furumoto, Ph.D., Scientific Review Officer, Scientific Review Officer, Scientific Review Branch, Extramural Program, NIAMS, 6701 Democracy Blvd., Rm. 820, Bethesda, MD 30892, 301-827-7835, yasuko.furumoto@nih.gov.

Name of Committee: Center for Scientific Review Special Emphasis Panel; PAR Panel: Maximizing Investigators' Research Award Review.

Date: July 22-23, 2025.

Time: 9:00 a.m. to 6:00 p.m.

Agenda: To review and evaluate grant applications.

Address: National Institutes of Health, Rockledge II, 6701 Rockledge Drive, Bethesda, MD 20892.

Meeting Format: Virtual Meeting,

Contact Person: Anita Szajek, Ph.D., Scientific Review Officer, Scientific Review Branch, Eunice Kennedy Shriver National Institute of Child Health and Human Development, NIH, 6701 Rockledge Drive, Room 2131D, Bethesda, MD 20892, anita.szajek@nih.gov.

Name of Committee: Center for Scientific Review Special Emphasis Panel; Small Business: The Cancer Drug Development and Therapeutics (CDDT).

Date: July 22-23, 2025.

Time: 9:00 a.m. to 6:00 p.m.

Agenda: To review and evaluate grant applications.

Address: National Institutes of Health, Rockledge II, 6701 Rockledge Drive, Bethesda, MD 20892.

Meeting Format: Virtual Meeting.

Contact Person: Viktoriya Sidorenko, Ph.D., Health Science Administrator, Program & Review Extramural Staff Training Office, Division of Extramural Activities, 9609 Medical Center Drive, Room 7W526, National Cancer Institute, NIH, Rockville, MD 20850, (240) 276-5073, viktoriya.sidorenko@nih.gov.

Name of Committee: Center for Scientific Review Special Emphasis Panel; Special topics in Psychosocial Risk and Interpersonal Processes of Health.

Date: July 22, 2025.

Time: 9:00 a.m. to 7:00 p.m.

Agenda: To review and evaluate grant applications.

Address: National Institutes of Health, Rockledge II, 6701 Rockledge Drive, Bethesda, MD 20892.

Meeting Format: Virtual Meeting.

Contact Person: Rochelle Francine Hentges, Ph.D., Scientific Review Officer, Center for Scientific Review, National Institutes of Health, 6701 Rockledge Drive, Room 1000C, Bethesda, MD 20892, (301) 402-8720, hentgesrf@mail.nih.gov.

Name of Committee: Center for Scientific Review Special Emphasis Panel; Investigator Initiated Program Project Applications.

Date: July 22-23, 2025.

Time: 9:30 a.m. to 5:00 p.m.

Agenda: To review and evaluate grant applications.

Address: National Institutes of Health, Rockledge II, 6701 Rockledge Drive, Bethesda, MD 20892.

Meeting Format: Virtual Meeting.

Contact Person: Liangbiao Zheng, Ph.D., Scientific Review Officer, Center for Scientific Review, National Institutes of Health, 6701 Rockledge Drive, Room 3202, MSC 7808, Bethesda, MD 20892, 301-996-5819, zhengli@csr.nih.gov.

Name of Committee: Center for Scientific Review Special Emphasis Panel; Medical Scientist Training Program, National Research Service Award, and Basic Biomedical Program (T32).

Date: July 22-23, 2025.

Time: 9:30 a.m. to 6:00 p.m.

Agenda: To review and evaluate grant applications.

Address: National Institutes of Health, Rockledge II, 6701 Rockledge Drive, Bethesda, MD 20892.

Meeting Format: Virtual Meeting.

Contact Person: Sonia Ivette Ortiz-Miranda, Ph.D., National Institute of General Medical Sciences, National Institutes of Health, Bethesda, MD 20892, (301) 594-0534, sonia.ortiz-miranda@nih.gov.

Name of Committee: Risk, Prevention and Health Behavior Integrated Review Group; HIV/AIDS Intra- and Inter-Personal Determinants and Behavioral Interventions Study Section.

Date: July 22-23, 2025.

Time: 9:30 a.m. to 5:30 p.m.

Agenda: To review and evaluate grant applications.

Address: National Institutes of Health, Rockledge II, 6701 Rockledge Drive, Bethesda, MD 20892.

Meeting Format: Virtual Meeting.

Contact Person: Joann Wu Shortt, Ph.D., Scientific Review Officer, Center for Scientific Review, National Institutes of Health, 6701 Rockledge Drive, Bethesda, MD 20892, (301) 827-7375, shorttjw@csr.nih.gov.

Name of Committee: Center for Scientific Review Special Emphasis Panel; Special Topics: Bioanalytical, Molecular, Cellular Sciences and Technologies.

Date: July 22-23, 2025.

Time: 9:30 a.m. to 6:00 p.m.

Agenda: To review and evaluate grant applications.

Address: National Institutes of Health, Rockledge II, 6701 Rockledge Drive, Bethesda, MD 20892.

Meeting Format: Virtual Meeting,

Contact Person: Khalida Shamim, Ph.D., Scientific Review Officer, The Center for Scientific Review, The National Institutes of Health, 6701 Rockledge Drive, Bethesda, MD 20892, khalida.shamim@nih.gov.

Name of Committee: Center for Scientific Review Special Emphasis Panel; RFA-HG-25-005: Enhancing Reuse of NHGRI Data Assets R03.

Date: July 22, 2025.

Time: 9:45 a.m. to 3:30 p.m.

Agenda: To review and evaluate grant applications.

Address: National Institutes of Health, Rockledge II, 6701 Rockledge Drive, Bethesda, MD 20892.

Meeting Format: Virtual Meeting.

Contact Person: Yoon-Young Jang, Ph.D., MD, Scientific Review Officer, National Institute of Biomedical Imaging and Bioengineering, National Institutes of Health, Bethesda, MD 20892, (301) 451-3397, yoon-young.jang@nih.gov.

Name of Committee: Center for Scientific Review Special Emphasis Panel; Fellowships: Endocrine and Metabolic Systems.

Date: July 22-23, 2025.

Time: 10:00 a.m. to 6:00 p.m.

Agenda: To review and evaluate grant applications.

Address: National Institutes of Health, Rockledge II, 6701 Rockledge Drive, Bethesda, MD 20892.

Meeting Format: Virtual Meeting.

Contact Person: Elena Sanovich, Ph.D., Scientific Review Officer, Scientific Review Branch, National Institute of Diabetes and Digestive and Kidney Diseases, National Institutes Of Health, 6707 Democracy Blvd., Room 7351, Bethesda, Md 20892, (301) 594-8886, sanoviche@mail.nih.gov.

Name of Committee: Center for Scientific Review Special Emphasis Panel; Member Conflict: Health Services and Systems- Clinical Data, Informatics, and Digital Health.

Date: July 22, 2025.

Time: 10:00 a.m. to 6:00 p.m.

Agenda: To review and evaluate grant applications.

Address: National Institutes of Health, Rockledge II, 6701 Rockledge Drive, Bethesda, MD 20892.

Meeting Format: Virtual Meeting.

Contact Person: Ivan K. Navarro, Ph.D., Scientific Review Officer, National Institute on Minority Health and Health Disparities, NIH, Gateway Building, 7201 Wisconsin Ave., Ste. 533, MSC 5465, Bethesda, MD 20892, 301-827-2061, ivan.navarro@nih.gov.

Name of Committee: Center for Scientific Review Special Emphasis Panel; Review of COBRE 1 Grant Applications.

Date: July 22-23, 2025.

Time: 10:00 a.m. to 6:00 p.m.

Agenda: To review and evaluate grant applications.

Address: National Institutes of Health, Rockledge II, 6701 Rockledge Drive, Bethesda, MD 20892.

Meeting Format: Virtual Meeting.

Contact Person: John J. Laffan, Ph.D., Office of Scientific Review, National Institute of General Medical Sciences, National Institutes of Health, Natcher Building, Room 3AN18J, Bethesda, MD 20892, laffanjo@mail.nih.gov.

Name of Committee: Center for Scientific Review Special Emphasis Panel; Research Education/Training Experience Program.

Date: July 22, 2025.

Time: 10:00 a.m. to 7:00 p.m.

Agenda: To review and evaluate grant applications.

Address: National Institutes of Health, 6701 Rockledge Drive, Bethesda, MD 20892.

Meeting Format: Virtual Meeting.

Contact Person: Anita T. Tandle, Ph.D., Scientific Review Officer, Division of Extramural Activities Scientific Review Branch, National Institute on Aging, NIH, 5601 Fishers Lane, Suite 8B, Rockville, MD 20892, (240) 204-0329, tandlea@mail.nih.gov.

Name of Committee: Center for Scientific Review Special Emphasis Panel; Fellowships and Mentored Training: Kidney, Urology, and Related Disciplines.

Date: July 22-23, 2025.

Time: 10:00 a.m. to 6:00 p.m.

Agenda: To review and evaluate grant applications.

Address: National Institutes of Health, Rockledge II, 6701 Rockledge Drive, Bethesda, MD 20892.

Meeting Format: Virtual Meeting.

Contact Person: Ryan G Morris, Ph.D., Scientific Review Officer, National Institute of Diabetes and Digestive and Kidney Diseases, National Institutes of Health, Room 7015, 6707 Democracy Boulevard, Bethesda, MD 20892-2542, 301-594-4721, ryan.morris@nih.gov.

Name of Committee: Center for Scientific Review Special Emphasis Panel; Training in General Medical Sciences.

Date: July 22-23, 2025.

Time: 10:00 a.m. to 6:30 p.m.

Agenda: To review and evaluate grant applications.

Address: National Institutes of Health, Rockledge II, 6701 Rockledge Drive, Bethesda, MD 20892.

Meeting Format: Virtual Meeting.

Contact Person: Priya Srinivasan, Ph.D., Scientific Review Officer, Resource and Training Review Branch Division of Extramural Activities, National Cancer Institute, NIH, 9609 Medical Center Drive, Room 7W604, Rockville, MD 20850, (240) 276-6459, priya.srinivasan@nih.gov.

Name of Committee: Center for Scientific Review Special Emphasis Panel; RFA Panel: Targeting Inflammasomes in HIV and Substance Use.

Date: July 22, 2025.

Time: 10:00 a.m. to 5:00 p.m.

Agenda: To review and evaluate grant applications.

Address: National Institutes of Health, Rockledge II, 6701 Rockledge Drive, Bethesda, MD 20892.

Meeting Format: Virtual Meeting.

Contact Person: Kristina S Wickham, Ph.D., Scientific Review Officer, NIAID/DEA/SRP, Bldg. 5601fl Room 3g22b, 5601 Fishers Ln., Rockville, MD 20852, 301-761-5390, kristina.wickham@nih.gov.

Name of Committee: Center for Scientific Review Special Emphasis Panel; Small Business: Cardiovascular and Hematological Sciences.

Date: July 22, 2025.

Time: 11:00 a.m. to 5:00 p.m.

Agenda: To review and evaluate grant applications.

Address: National Institutes of Health, Rockledge II, 6701 Rockledge Drive, Bethesda, MD 20892.

Meeting Format: Virtual Meeting.

Contact Person: Katherine M. Malinda, Ph.D., Scientific Review Officer, Center for Scientific Review, National Institutes of Health, 6701 Rockledge Drive, Room 4140, MSC 7814, Bethesda, MD 20892, (301) 435-0912, malindakm@csr.nih.gov.

Name of Committee: Center for Scientific Review Special Emphasis Panel; PAR-24-129; PAR-25-273: Specific Pathogen Free Macaque Colonies and Development of Animal Models and Related Biological Materials.

Date: July 22, 2025.

Time: 1:00 p.m. to 4:30 p.m.

Agenda: To review and evaluate grant applications.

Address: National Institutes of Health, Rockledge II, 6701 Rockledge Drive, Bethesda, MD 20892.

Meeting Format: Virtual Meeting.

Contact Person: Zhuqing Li, Ph.D., Scientific Review Officer, Scientific Review Program, Division of Extramural Activities, Room # 3G41B, National Institutes of Health/NIAID, 5601 Fishers Lane, MSC 9834, Bethesda, MD 20892-9834, (240) 669-5068, zhuqing.li@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 24, 2025.
Bruce A. George,
Program Analyst, Office of Federal Advisory Committee Policy.

[FR Doc. 2025-11775 Filed 6-25-25; 8:45 am]

BILLING CODE 4140-01-P